DEPARTMENT OF VETERANS AFFAIRS

IHS/THP Reimbursement Agreements Program—AI/AN Veterans Care Coordination

AGENCY: Department of Veterans Affairs.

ACTION: Notice of tribal consultation session.

SUMMARY: The Department of Veterans Affairs (VA), Veterans Health Administration (VHA) will facilitate a tribal consultation session regarding care coordination for veterans receiving care under the VA's Indian Health Service/Tribal Health Program (IHS/THP) Reimbursement Agreements Program. VA is seeking input on how we can ensure American Indian/Alaska Native (AI/AN) veterans, who need care beyond what is offered directly within IHS/THP facilities, are able to get that care seamlessly either in VA medical facilities or in the community. VA established the Healthcare Coordination Advisory Board, with participation from IHS and tribes, to assist in developing and implementing standardized processes for care coordination. This consultation session aims to discuss the approach developed from the Advisory Board meetings and receive attendees' feedback on the plans for implementation of care coordination activities.

Meeting Access Information: The virtual tribal consultation session will be held on Tuesday, August 25, 2020, from 3:30-5:00 p.m. (Eastern Standard Time). Participants can access the presentation by logging into the following:

https://vacctraining.adobeconnect.com/tribalconsultationihsthpreimbursementcarecoordinationplan/; for audio, please dial 1-800-767-1750, extension 85286. Participants will interact by submitting written comments/questions using the chat function during the presentation. Written comments may also be submitted to tribalgovernmentconsultation@va.gov before September 25, 2020, or by mail at Department of Veterans Affairs, Suite 915L, 810 Vermont Avenue NW, Washington, DC 20420.

FOR FURTHER INFORMATION CONTACT: Please email Ms. Kara Hawthorne, IHS/THP Program Manager, VA Office of Community Care, at Tribal.Agreements@va.gov, or by telephone at 303-780-4826 (this is not a toll-free number).

SUPPLEMENTARY INFORMATION: Utilizing the authorities found in 25 U.S.C. 1645(c), Sharing Arrangements with Federal Agencies, and 38 U.S.C. 8153, Sharing of Health-Care Resources, VA, IHS and Tribal Healthcare providers have created the IHS/THP Reimbursement Agreements Program. This program provides a means for IHS and THP health facilities to receive reimbursement from VA for direct care services provided to eligible AI/AN veterans. This tribal consultation session is seeking input from tribal governments regarding proposed enhancement to care coordination efforts for eligible AI/AN veterans utilizing the Program when tribes cannot provide direct care services to veterans.

Signing Authority

The Secretary of Veterans Affairs, or designee, approved this document and authorized the undersigned to sign and submit the document to the Office of the Federal Register for publication electronically as an official document of the Department of Veterans Affairs. Brooks D. Tucker, Acting Chief of Staff, Department of Veterans Affairs, approved this document on July 29, 2020 for publication.

Luvenia Potts,
Regulation Development Coordinator, Office of Regulation Policy & Management, Office of the Secretary, Department of Veterans Affairs.

[FR Doc. 2020-17584 Filed 8-11-20; 8:45 am]

BILLING CODE 8320-01-P